INTERNATIONAL TRADE COMMISSION

[Investigations Nos. 731-TA-770-775 (Review)]

Stainless Steel Wire Rod from Italy, Japan, Korea, Spain, Sweden, and Taiwan

Determination

On the basis of the record ¹ developed in the subject five-year reviews, the United States International Trade Commission (Commission) determines, pursuant to section 751(c) of the Tariff Act of 1930 (19 U.S.C. 1675(c)) (the Act), that revocation of the antidumping duty orders on stainless steel wire rod from Italy, Japan, Korea, Spain, Sweden, and Taiwan would be likely to lead to continuation or recurrence of material injury to an industry in the United States within a reasonably foreseeable time.²

¹ The record is defined in sec. 207.2(f) of the Commission's Rules of Practice and Procedure (19 CFR 207.2(f)).

² Vice Chairman Deanna Tanner Okun and Commissioner Daniel R. Pearson dissenting with respect to stainless steel wire rod from Italy, Korea, Spain, and Sweden.

Background

The Commission instituted these reviews on August 1, 2003 (68 FR 45277) and determined on November 4, 2003 that it would conduct full reviews (68 FR 65085, November 18, 2003). Notice of the scheduling of the Commission's reviews and of a public hearing to be held in connection therewith was given by posting copies of the notice in the Office of the Secretary, U.S. International Trade Commission, Washington, DC, and by publishing the notice in the Federal Register on February 3, 2004 (69 FR 5185). The hearing was held in Washington, DC, on May 18, 2004, and all persons who requested the opportunity were permitted to appear in person or by counsel.

The Commission transmitted its determination in these reviews to the Secretary of Commerce on July 22, 2004. The views of the Commission are contained in USITC Publication 3707 (July 2004), entitled Stainless Steel Wire Rod from Italy, Japan, Korea, Spain, Sweden, and Taiwan: Investigations Nos. 731-TA-770-775 (Review).

Issued: July 23, 2004.
By order of the Commission.
Marilyn R. Abbott,
Secretary to the Commission.

[FR Doc. 04-17170 Filed 7-27-04; 8:45 am]

BILLING CODE 7020-02-P